DEPARTMENT OF HEALTH AND HUMAN SERVICES

Substance Abuse and Mental Health Services Administration

Fiscal Year (FY) 2022 Notice of Supplemental Funding Opportunity

AGENCY: Substance Abuse and Mental Health Services Administration, HHS.

ACTION: Notice of Intent to award supplemental funding to the Prevention Technology Transfer Centers (PTTC) Regional Centers, the PTTC Hispanic and Latino Center, and the PTTC Tribal Affairs Center grant recipients funded in FY 2018 from Funding Opportunity Announcement SP-19-001.

SUMMARY: This notice is to inform the public that the Substance Abuse and Mental Health Services Administration (SAMHSA) is supporting administrative supplements (in scope of the parent award) up to $150,000 each for one-year to the ten PTTC Regional Centers, the PTTC Hispanic and Latino Center and the PTTC Tribal Affairs Center for a total funding amount of $1,800,000. These grant recipients were funded in FY 2018 under the PTTC Cooperative Agreements, funding announcement SP-19-001 and have a project end date of April 30, 2023. The supplemental funds will be used to: (1) Develop a Prevention Fellowship Program (PFP); (2) develop and sustain a well-trained and knowledgeable cadre of prevention professionals who understand and exemplify the principles and best practices of substance abuse prevention; and (3) prepare fellows to achieve certification from the International Certification and Reciprocity Consortium (IC&RC) Certified Prevention Specialist (CPS) exam. The PFP shall support internships for fellows in the following areas: Hands-on experience working in state agencies while supported by state agency mentors; virtual and in-person training in professional development and prevention; acquiring proficiency in appropriate core competencies in preparation for the CPS exam; developing management and leadership skills; and preparing for potential employment opportunities within the prevention field. This is not a formal request for application. Assistance will only be provided to the twelve eligible PTTC Centers based on the receipt of a satisfactory application and associated budget that is approved by a review group.

Funding Opportunity Title: FY 2018 Prevention Technology Transfer Centers (PTTC) Cooperative Agreements Funding Opportunity SP-19-001.

Assistance Listing Number: 93.243.

Authority: Section 509 (42 U.S.C. 290bb-4) of the Public Health Service Act, as amended.

Justification: Eligibility for this supplemental funding is limited to the twelve PTTC Centers funded in FY 2018 under the PTTC Cooperative Agreements as they are uniquely positioned to engage in the regionally-focused prevention activity being funded through this supplement.

FOR FURTHER INFORMATION CONTACT: Thia Walker, DrPH., Substance Abuse and Mental Health Services Administration, 5600 Fishers Lane, Rockville, MD 20857, telephone (240) 276-1835; email: thia.walker@samhsa.hhs.gov.

Carlos Graham,
Reports Clearance Officer.

[FR Doc. 2022-09866 Filed 5-6-22; 8:45 am]

BILLING CODE 4162-20-P